DEPARTMENT OF TRANSPORTATION

Federal Aviation Administration

[AC 187-1G]

Schedule of Charges Outside the United States

AGENCY: Federal Aviation Administration (FAA), DOT.

ACTION: Notice of availability.

SUMMARY: The Federal Aviation Administration (FAA) is announcing the availability of Advisory Circular (AC) 187-1G which transmits an updated schedule of charges for services of FAA Flight Standards Aviation Safety Inspectors outside the United States. The advisory circular has been updated in accordance with the procedures listed in 14 CFR Part 187, Appendix A.

DATES: This AC is effective on October 1, 2013.

ADDRESSES: How to obtain copies: A copy of this publication may be downloaded from: http://www . faa.goy/document Library/media/Advisory_Circular/.pdf

FOR FURTHER INFORMATION CONTACT: Ms. Tish Thompkins-lmafidon, Flight Standards Service, AFS-50, Federal Aviation Administration, 800 Independence Avenue SW., Washington, DC 20591, telephone (202) 385-8097.

Issued in Washington, DC, on September 25, 2013.
Michael J. Zenkovich,
Deputy Director, Flight Standards Service.

[FR Doc. 2013-24224 Filed 9-30-13; 4:15 pm]

BILLING CODE 4910-13-P